DEPARTMENT OF VETERANS AFFAIRS

[OMB Control No. 2900-0865]

Agency Information Collection Activity: Certification Requirements for Funeral Honors Providers

AGENCY: National Cemetery Administration, Department of Veterans Affairs.

ACTION: Notice.

SUMMARY: In compliance with the Paperwork Reduction Act (PRA) of 1995, this notice announces that the National Cemetery Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0865.

FOR FURTHER INFORMATION CONTACT: Maribel Aponte, Office of Enterprise and Integration, Data Governance Analytics (008), 1717 H Street NW, Washington, DC 20006, (202) 266-4688 or email maribel.aponte@va.gov. Please refer to “OMB Control No. 2900-0865” in any correspondence.

SUPPLEMENTARY INFORMATION: Authority: 38 U.S.C. 2402 and 38 U.S.C. 2404; 38 CFR 38.619.

Title: Certification Requirements for Funeral Honors Providers.

OMB Control Number: 2900-0865.

Type of Review: Extension of a currently approved collection.

Abstract: This information (VA Form 40-10190) is needed to ensure that funeral honors activities performed on VA property maintain the honor and dignity of the national cemetery and do not negatively impact the safety of cemetery visitors.

An agency may not conduct or sponsor, and a person is not required to respond to a collection of information unless it displays a currently valid OMB control number.

The Federal Register Notice with a 60-day comment period soliciting comments on this collection of information was published at 87 FR 27701, May 9, 2022.

Affected Public: Individuals or households.

Estimated Annual Burden: 31.66667 hours.

Estimated Average Burden per Respondent: 5 minutes.

Frequency of Response: One-time.

Estimated Number of Respondents: 380.

By direction of the Secretary.
Maribel Aponte,
VA PRA Clearance Officer, Office of Enterprise and Integration/Data Governance Analytics, Department of Veterans Affairs.

[FR Doc. 2022-15100 Filed 7-14-22; 8:45 am]

BILLING CODE 8320-01-P